DEPARTMENT OF DEFENSE

Office of the Secretary

Defense Acquisition University (DAU) Board of Visitors (BoV) Meeting

AGENCY: Defense Acquisition University, DoD.

ACTION: Meeting notice.

SUMMARY: The next meeting of the Defense Acquisition University (DAU) Board of Visitors (BoV) will be held at DAU Headquarters at Fort Belvoir, Virginia. The purpose of this meeting is to report back to the BoV on continuing items of interest.

DATES: The meeting will be held on February 24, 2010, from 1100 to 1300.

ADDRESSES: The meeting will be held at 9820 Belvoir Road, Fort Belvoir, Virginia 22060.

FOR FURTHER INFORMATION CONTACT: Ms. Christen Goulding at 703-805-5134.

SUPPLEMENTARY INFORMATION: Due to the inclement weather in Washington, DC, the Government was unable to process the Federal Register notice for the Defense Acquisition University Board of Visitors' February 24, 2010, meeting as required by 41 CFR 102-3.150(a). Accordingly, the Committee Management Officer for the Department of Defense, pursuant to 41 CFR 102-3.150(b), waives the 15-calendar day notification requirement.

The meeting is open to the public; however, because of space limitations, allocation of seating will be made on a first-come, first served basis. Persons desiring to attend the meeting should contact Ms. Christen Goulding (see FOR FURTHER INFORMATION CONTACT).

Dated: February 16, 2010.
Mitchell S. Bryman,
Alternate OSD Federal Register Liaison Officer, Department of Defense.

[FR Doc. 2010-3378 Filed 2-23-10; 8:45 am]

BILLING CODE 5001-06-P